DEPARTMENT OF ENERGY

Federal Energy Regulatory Commission

[Project No. 190-106]

Moon Lake Electric Association, Inc.; Notice of Intent To Prepare an Environmental Assessment

On December 31, 2024, Moon Lake Electric Association, Inc. (licensee) filed an application to surrender its license for the Uintah Hydroelectric Project No. 190. The project is located on the Uinta River, Pole Creek, and Big Springs, near the town of Neola, Duchesne County, Utah. The project occupies lands of the Uintah and Ouray Indian Reservation of the Ute Indian Tribe and the U.S. Forest Service's Ashley National Forest.

The licensee proposes to remove certain project features while leaving others in place. The retained project features will then be transferred to the Ute Indian Tribe. Project features to be removed include the scour protection weir which traverses the Uinta River; the elevated pipeline that supplies water to the main canal; the Pole Creek diversion structure; the substation; and two operator houses. Features to be retained include: the main canal heading structure and main canal, the Big Springs diversion structure (and access road); the project forebay, the powerhouse; and garage. The transmission line that provides electricity to legacy cabins and the nearby Ute Fish Hatchery will be retained under the licensee's proposal. On February 27, 2025, the Commission issued a public notice for the proposed surrender, accepted the application for filing, and solicited comments, motions to intervene, and protests. Several filings were made in response to the Commission's notice.

This notice identifies Commission staff's intention to prepare an environmental assessment (EA) under the National Environmental Policy Act (42 U.S.C. 4321 et seq.) for the project.¹ Commission staff plans to issue an EA by October 20, 2025. Revisions to the schedule may be made as appropriate. The EA will be issued for a 30-day comment period. All comments filed on the EA will be reviewed by staff and considered in the Commission's final decision on the proceeding.

¹ The unique identification number for documents relating to this environmental review is EAXX-019-20-000-1753089690.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Diana Shannon at 202-502-6136 or diana.shannon@ferc.gov.

Dated: August 25, 2025.
Debbie-Anne A. Reese,
Secretary.

[FR Doc. 2025-16559 Filed 8-27-25; 8:45 am]

BILLING CODE 6717-01-P